DEPARTMENT OF ENERGY

Federal Energy Regulatory Commission

[Docket No. GT01-27-000]

Williston Basin Interstate Pipeline Company; Notice of Tariff Filing

August 17, 2001.

Take notice that on August 13, 2001, Williston Basin Interstate Pipeline Company (Williston Basin), tendered for filing as part of its FERC Gas Tariff, Second Revised Volume No. 1, the following revised tariff sheet, to become effective August 13, 2001:

Seventh Revised Sheet No. 375

Williston Basin states that it has revised the above-referenced tariff sheet found in Section 48 of the General Terms and Conditions of its FERC Gas Tariff, Second Revised Volume No. 1, to add a new receipt point, Point ID No. 04842 (Piney Creek), to Williston Basin's Billy Creek Pool. Point ID No. 04842 (Piney Creek) is a new receipt point constructed to allow Williston Basin to receive natural gas for its shippers.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket #” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-21242 Filed 8-22-01; 8:45 am]

BILLING CODE 6717-01-P